DEPARTMENT OF TRANSPORTATION

Federal Transit Administration

Notice of Granted Buy America Waiver

AGENCY: Federal Transit Administration (FTA), DOT.

ACTION: Notice of granted Buy America waiver.

SUMMARY: This waiver allows ticket vending machine manufacturers to install the Cash Code bill-handling unit and count it as domestic for purposes of Buy America compliance. It is predicated on the non-availability of the item domestically and was granted on June 11, 2003, for the period of two years. This notice shall insure that the public is aware of this waiver.

FOR FURTHER INFORMATION CONTACT: Meghan G. Ludtke, FTA Office of Chief Counsel, Room 9316, (202) 366-1936 (telephone) or (202) 366-3809 (fax).

SUPPLEMENTARY INFORMATION: See waiver below.

Issued: July 22, 2003.
Jennifer L. Dorn,
Administrator.

June 11, 2003.

Mr. Val Levitan,

Senior V.P. Sales & Marketing, Cash Code, 553 Basaltic Road, Concord, Ontario Canada L4K 4W8

Dear Mr. Levitan: This letter responds to your correspondence of May 8, 2003, in which you request a non-availability waiver of the Buy America requirements for certain bill-handling units manufactured for use in ticket vending machines. These bill-handling units accept, validate, and mechanically escrow banknotes of various denominations until a transaction is complete. For the reasons below, I have determined that a waiver is appropriate here.

The Federal Transit Administration's (FTA) requirements concerning domestic preference for federally funded transit projects are set forth in 49 U.S.C. 5323(j). However, section 5323(j)(2)(B) states that those requirements shall not apply if the item or items being procured are not produced in the U.S. in sufficient and reasonably available quantities and of a satisfactory quality. The implementing regulation also provides that a waiver may be requested “for a specific item or material that is used in the production of a manufactured product.” 49 CFR 661.7(g). The regulations allow a bidder or supplier to request a waiver only if it is being sought under this section. See, 49 CFR 661.7(g) and 49 CFR 661.9(d).

You state that there are no U.S. manufacturers of this component with a functionally equivalent product. This assertion is supported by GFI Genfare, a ticket vending machine manufacturer and potential end user of this component. GFI Genfare conducted a market survey, the results of which affirmed that there is no U.S. manufacturer of an equivalent bill-handling unit. FTA also posted a request for comments on this matter on our website and received no comments. FTA has granted similar waivers to other bill-handling unit manufacturers, Mars Electronics and Toyocom, U.S.A., also based on the non-availability of a U.S. alternative.

Based on the above-referenced information, I have determined that the grounds for a “non-availability” waiver exist. Therefore, pursuant to the provisions of 49 U.S.C. 5323(j)(2)(B), a waiver is hereby granted for manufacture of the BB-5001/2/3/4 bill-handling unit for a period of two years. In order to insure that the public is aware of this waiver it will be published in the Federal Register. If you have any questions, please contact Meghan Ludtke at (202) 366-1936.

Very truly yours,

Gregory B. McBride,

Deputy Chief Counsel.

[FR Doc. 03-19012 Filed 7-24-03; 8:45 am]

BILLING CODE 4910-57-P